NUCLEAR REGULATORY COMMISSION

[NRC-2011-0241]

Biweekly Notice; Applications and Amendments to Facility Operating Licenses; Involving No Significant Hazards Considerations

Background

Pursuant to section 189a. (2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from September 22, 2011 to October 5, 2011. The last biweekly notice was published on October 4, 2011(76 FR 61391).

Addresses: Please include Docket ID NRC-2011-0241 in the subject line of your comments. Comments submitted in writing or in electronic form will be posted on the NRC Web site and on the Federal rulemaking Web site http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You may submit comments by any one of the following methods.

• Federal Rulemaking Web Site: Go to http://www.regulations.gov and search for documents filed under Docket ID NRC-2011-0241. Address questions about NRC dockets to Carol Gallagher 301-492-3668; e-mail Carol.Gallagher@nrc.gov.

• Mail comments to: Chief, Rules, Announcements, and Directives Branch (RADB), Office of Administration, Mail Stop: TWB-05-B01M, U.S. Nuclear Regulatory Commission, Washington, DC 20555-0001.

• Fax comments to: RADB at 301-492-3446.

You can access publicly available documents related to this notice using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are accessible electronically through ADAMS in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov.

• Federal Rulemaking Web Site: Public comments and supporting materials related to this notice can be found at http://www.regulations.gov by searching on Docket ID: NRC-2011-0241.

Notice of Consideration of Issuance of Amendments to Facility Operating Licenses, Proposed No Significant Hazards Consideration Determination, and Opportunity for a Hearing

The Commission has made a proposed determination that the following amendment requests involve no significant hazards consideration. Under the Commission's regulations in Title 10 of the Code of Federal Regulations (10 CFR), Section 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area O1F21, 11555 Rockville Pike (first floor), Rockville, Maryland. NRC regulations are accessible electronically from the NRC Library on the NRC Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the Internet, or in some cases to mail copies on electronic storage media. Participants may not submit paper copies of their filings unless they seek an exemption in accordance with the procedures described below.

To comply with the procedural requirements of E-Filing, at least ten (10) days prior to the filing deadline, the participant should contact the Office of the Secretary by e-mail at hearing.docket@nrc.gov, or by telephone at (301) 415-1677, to request (1) a digital ID certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through EIE, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an e-mail notice confirming receipt of the document. The E-Filing system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by e-mail at MSHD.Resource@nrc.gov, or by a toll-free call at (866) 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Non-timely filings will not be entertained absent a determination by the presiding officer that the petition or request should be granted or the contentions should be admitted, based on a balancing of the factors specified in 10 CFR 2.309(c)(1)(i)-(viii).

For further details with respect to this license amendment application, see the application for amendment which is available for public inspection at the Commission's PDR, located at One White Flint North, Public File Area O1F21, 11555 Rockville Pike (first floor), Rockville, Maryland. Publicly available documents created or received at the NRC are accessible electronically through ADAMS in the NRC Library at http://www.nrc.gov/reading-rm/adams.html. Persons who do not have access to ADAMS or who encounter problems in accessing the documents located in ADAMS, should contact the NRC PDR Reference staff at 1-800-397-4209, 301-415-4737, or by e-mail to pdr.resource@nrc.gov.

Calvert Cliffs Nuclear Power Plant, LLC, Docket Nos. 50-317 and 50-318, Calvert Cliffs Nuclear Power Plant, Unit Nos. 1 and 2, Calvert County, Maryland

Date of amendments request: August 31, 2011.

Description of amendments request: The amendment would revise Technical Specification (TS) 3.4.1, “RCS [reactor coolant system] Pressure, Temperature, and Flow Departure from Nuclear Boiling (DNB) Limits,” the bases for TS 3.4.1 and TS 5.6.5, “Core Operating Limits Report (COLR),” by replacing the DNB numeric limits with references to the COLR. The proposed changes are consistent with TS Task Force (TSTF) change traveler TSTF-487-A, Revision 1, “Relocate DNB Parameters to the COLR.”

Basis for proposed no significant hazards consideration determination: As required by 10 CFR 50.91(a), the licensee has provided its analysis of the issue of no significant hazards consideration, which is presented below:

1. [Would the amendment involve] a significant increase in the probability or consequences of an accident previously evaluated?

No.

The proposed amendment replaces the limit values of the Reactor Coolant System (RCS) departure from nucleate boiling (DNB) parameters i.e., pressurizer pressure, RCS cold leg temperature and RCS flow rate in the Technical Specifications (TS) with references to the Core Operating Limits Report (COLR), in accordance with the guidance of Generic Letter 88-16, to allow these parameter limit values to be recalculated without a license amendment. The proposed amendment does not involve operation of any required structures, systems, or components in a manner or configuration different from those previously recognized or evaluated. The cycle-specific values in the COLR must be calculated using the NRC [Nuclear Regulatory Commission] approved methodologies listed in TS 5.6.5, “Core Operating Limits Report (COLR).” Replacing the RCS DNB parameter limits in the TS with references to the COLR will maintain existing operating fuel cycle analysis requirements. Because these parameter limits are determined using NRC-approved methodologies, the acceptance criteria established for the safety analyses of various transients and accidents will continue to be met.

Therefore, neither the probability nor consequences of any accident previously evaluated will be increased by the proposed change.

The proposed administrative change to remove an outdated note from TS 3.4.1.c and SR [surveillance requirement] 3.4.1.3 does not affect any analyzed accident initiators, nor does it affect the unit's ability to successfully respond to any previously evaluated accident. In addition, the proposed amendment does not change the operation or maintenance that is performed on plant equipment.

Therefore, operation of the facility in accordance with the proposed amendment does not involve a significant increase in the probability of consequences of an accident previously evaluated.

2. [Would the amendment create] the possibility of a new or different type of accident from any accident previously evaluated?

No.

The proposed amendment to replace the RCS DNB parameter limits in the TS with references to the COLR does not involve a physical alteration of the plant, nor a change or addition of a system function. The proposed amendment does not involve operation of any required system, structure, or component in a manner or configuration different from those previously recognized or evaluated. No new failure mechanisms will be introduced by the proposed change.

The proposed administrative change to remove an outdated note from TS 3.4.1.c and SR 3.4.1.3 does not involve a physical alteration to the plant (no new or different type of equipment will be installed) or a change in the methods governing normal plant operation.

Therefore, the proposed amendment does not create the possibility or a new or different kind of accident from any previously evaluated.

3. [Would the amendment involve] a significant reduction in a margin of safety?

No.

The proposed amendment to replace the RCS DNB parameter limits in the TS with references to the COLR will continue to maintain the margin of safety. The DNB parameter limits specified in the COLR will be determined based on the safety analysis of transients and accidents, performed using NRC-approved methodologies that show that, with appropriate measurement uncertainties of the parameters accounted for, the acceptance criteria for each of the analyzed transients are met. This provides the same margin of safety as the limit values currently specified in the TS. Any future revisions to the safety analyses that require prior NRC approval are identified per the 10 CFR [Code of Federal Regulations] 50.59 review process.

The proposed administrative change removes an outdated note from TS 3.4.1.c and SR 3.4.1.3. Since this is an administrative change, the safety function of plant equipment and their response to any analyzed accident are unaffected by this proposed change and, thus, there is no reduction in any margin of safety.

Therefore, the proposed amendment would not involve a significant reduction in a margin of safety.

The NRC staff has reviewed the licensee's analysis and, based on this review, it appears that the three standards of 10 CFR 50.92(c) are satisfied. Therefore, the NRC staff proposes to determine that the amendments request involves no significant hazards consideration.

Attorney for licensee: Carey Fleming, Sr. Counsel—Nuclear Generation, Constellation Generation Group, LLC, 750 East Pratt Street, 17th floor, Baltimore, MD 21202.

NRC Branch Chief: Nancy L. Salgado.

Exelon Generation Company, LLC, Docket No. 50-461, Clinton Power Station, Unit No.1, DeWitt County, Illinois

Date of amendment request: August 15, 2011.

Description of amendment request: The proposed amendment would revise the Limiting Condition for Operation (LCO) 3.8.1, “AC Sources—Operating,” through a reduction to the maximum steady state voltage criteria for safety-related 4.16 kV buses from 4580 V to 4300 V in certain Technical Specification (TS) Section 3.8.1 Surveillance Requirements.

Basis for proposed no significant hazards consideration determination: As required by 10 CFR 50.91(a), the licensee has provided its analysis of the issue of no significant hazards consideration which is presented below:

1. Does the proposed change involve a significant increase in the probability or consequences of an accident previously evaluated?

Response: No.

The proposed change does not significantly increase the probability of an accident previously evaluated in the Updated Safety Analysis Report (USAR). The revised steady state voltage ensures that the diesel generators (DGs) and equipment powered by the DGs will continue to function as required to mitigate accidents as described in the USAR. The DGs and the equipment they power are part of the systems required to mitigate an accident. Mitigation equipment is not a factor in accident initiation.

Therefore, the probability of a previously evaluated accident will not significantly increase due to operating in the proposed manner.

The reduction of the DG maximum steady state voltage limit ensures that the DGs and the safety-related components downstream of the DG are operated within their design limitations; therefore, the consequences of an accident previously evaluated in the USAR will not be increased by operating in the proposed manner. The change to the DG maximum steady state voltage limit ensures the DGs and equipment powered by the DGs will perform as analyzed and mitigate the consequences of any accident described in the USAR.

Therefore, the change in the maximum steady state voltage limit is within the bounds of previous analysis in the USAR and does not involve an increase in the consequences of an accident previously evaluated.

Therefore, the proposed change does not involve a significant increase in the probability or consequence of any previously evaluated accident.

2. Does the proposed change create the possibility of a new or different kind of accident from any accident previously evaluated?

Response: No.

This TS amendment request does not involve any changes to the operation, testing, or maintenance of any safety-related, or otherwise important to safety system. All systems that are important to safety will continue to be operated and maintained within their design bases. The proposed changes to LCO 3.8.1 will resolve a non-conservatism, which will serve to ensure that all associated systems and components are operated reliably within their design capabilities.

Since all systems will continue to be operated within their design capabilities, no new failure modes are introduced, nor is the possibility of a new or different kind of accident created through operation in the proposed manner.

3. Does the proposed change involve a significant reduction in a margin of safety?

Response: No.

The proposed change is limited to the diesel generator maximum steady state voltage limit acceptance criterion in TS 3.8.1 Surveillance Requirements. No other surveillance criterion is affected. The surveillance frequencies and test requirements are unchanged. The proposed change provides increased assurance that the diesel generators and equipment powered by the diesel generators will perform as designed.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. Bradley J. Fewell, Associate General Counsel, Exelon Generation Company, LLC, 4300 Winfield Road, Warrenville, IL 60555.

NRC Branch Chief: Jacob I. Zimmerman.

FirstEnergy Nuclear Operating Company (FENOC), Docket Nos. 50-334 and 50-412, Beaver Valley Power Station (BVPS), Unit Nos. 1 and 2, Beaver County, Pennsylvania

Docket No. 50-346, Davis-Besse Nuclear Power Station, Unit No. 1 (DBNPS), Ottawa County, Ohio

Docket No. 50-440, Perry Nuclear Power Plant, Unit No. 1 (PNPP), Lake County, Ohio

Date of amendment request: September 20, 2011.

Description of amendment request: The proposed amendment would revise the licenses of BVPS, Unit Nos. 1 and 2, DBNPS and PNPP to reflect the name change of an owner licensee from “FirstEnergy Nuclear Generation Corp.” to “FirstEnergy Nuclear Generation, LLC.” The proposed amendment is administrative in nature. The proposed amendment will also correct errors regarding the name of FirstEnergy Nuclear Generation Corp in the DBNPS and PNNP Facility Operating Licenses.

Basis for proposed no significant hazards consideration determination: As required by Title 10 of the Code of Federal Regulations (CFR), Section 50.91(a), the licensee has provided its analysis of the issue of no significant hazards consideration, which is presented below:

1. Does the proposed amendment involve a significant increase in the probability or consequences of an accident previously evaluated?

Response: No.

The proposed amendment changes the name of an owner licensee. The proposed amendment is considered administrative in nature. The functions of the owner licensee will not change. There is no impact upon the other facility licensees. FENOC will remain the operator of the facilities. The proposed amendment does not alter the design, function, or operation of any plant equipment. As such, the accident and transient analyses contained in the facility updated final safety analysis reports will not be impacted.

Therefore, the proposed change does not involve a significant increase in the probability or consequences of an accident previously evaluated.

2. Does the proposed change create the possibility of a new or different kind of accident from any accident previously evaluated?

Response: No.

The proposed amendment is considered administrative in nature. The functions of the owner licensee will not change. The proposed amendment does not alter the design, function, or operation of any plant equipment.

Therefore, the proposed change does not create the possibility of a new of different kind of accident from any previously identified.

3. Does the proposed change involve a significant reduction in a margin of safety?

Response: No.

The proposed amendment changes the name of an owner licensee. The proposed amendment is considered administrative in nature. The functions of the owner licensee will not change. There is no impact upon the other facility licensees. FENOC will remain the operator of the facilities. The proposed amendment does not alter the design, function, or operation of any plant equipment. As such, the accident and transient analyses contained in the facility updated final safety analysis reports will not be impacted.

Therefore, the proposed change does not involve a significant reduction in a margin of safety.

The NRC staff has reviewed the licensee's analysis and, based on this review, it appears that the three standards of 10 CFR 50.92(c) are satisfied. Therefore, the NRC staff proposes to determine that the requested amendments involve no significant hazards consideration.

Attorney for licensee: David W. Jenkins, Attorney, FirstEnergy Corporation, 76 South Main Street, Akron, Ohio 44308.

NRC Branch Chief: Jacob I. Zimmerman.

Florida Power and Light Company (FPL), Docket Nos. 50-250 and 50-251, Turkey Point Plant, Units 3 and 4, Miami-Dade County, Florida

Date of amendment request: May 25, 2011.

Description of amendment request: The proposed changes would relocate the specifications in Section 5.2—Containment, Section 5.4—Reactor Coolant System, and Section 5.6—Component Cyclic or Transient Limit, to the Updated Final Safety Analysis Report (UFSAR). Technical Specification (TS) 5.5.3 regarding spent fuel storage pool capacity would be revised to a total pool capacity limit only. This application also satisfies FPL commitments in Turkey Point Licensee Event Report 05000250/2010-001-01 dated November 22, 2010, and FPL letter L-2011-032 dated February 22, 2011.

Basis for proposed no significant hazards consideration determination: As required by 10 CFR 50.91(a), the licensee has provided its analysis of the issue of no significant hazards consideration, which is presented below:

FPL has evaluated these TS changes to determine if a significant hazard is present. The No Significant Hazards Consideration evaluation required by 10 CFR 50.92 is provided below.

(1) Would operation of the facility in accordance with the proposed amendment involve a significant increase in the probability or consequences of an accident previously evaluated?

Response: No.

The deletion of TSs 5.2, 5.4 and 5.6 with design values and cyclic or transient limits relocated to the FSAR, and the relocation of storage rack capacities in TS 5.5.3 to the FSAR are administrative in nature. The TS changes do not represent any physical change to plant systems, structures, or components, or to procedures established for plant operation.

Therefore, initial conditions associated with and systems credited for mitigating the consequences of accidents previously evaluated remain unchanged.

Therefore, facility operation in accordance with the proposed amendment would not involve a significant increase in the probability or consequences of an accident previously evaluated.

(2) Would operation of the facility in accordance with the proposed amendment create the possibility of a new or different kind of accident from any accident previously evaluated?

Response: No.

The deletion of TSs 5.2, 5.4 and 5.6 with design values and cyclic or transient limits relocated to the FSAR, and the relocation of storage rack capacities in TS 5.5.3 to the FSAR are administrative in nature. The TS changes do not represent any physical change to plant systems, structures, or components, or to procedures established for plant operation. Because the proposed changes are administrative and do not alter or create a new mode of plant operation or configuration, the possibility of a new or different kind of accident is not created.

Therefore, operation of the facility in accordance with the proposed amendment would not create the possibility of a new or different kind of accident from any accident previously evaluated.

(3) Would operation of the facility in accordance with the proposed amendment involve a significant reduction in a margin of safety?

Response: No.

The deletion of TSs 5.2, 5.4 and 5.6 with design values and cyclic or transient limits relocated to the FSAR, and the relocation of storage rack capacities in TS 5.5.3 to the FSAR are administrative in nature. The TS changes do not represent any physical change to plant systems, structures, or components, or to procedures established for plant operation. Because the proposed changes are administrative and do not alter or create a new mode of plant operation or configuration, margins of safety are unchanged.

Therefore, operation of the facility in accordance with the proposed amendment will not involve a significant reduction in a margin of safety.

The NRC staff has reviewed the licensee's analysis and, based on this review, it appears that the three standards of 50.92(c) are satisfied. Therefore, the NRC staff proposes to determine that the amendment request involves no significant hazards consideration.

Attorney for licensee: M.S. Ross, Attorney, Florida Power & Light, P.O. Box 14000, Juno Beach, Florida 33408-0420.

NRC Branch Chief: Douglas A. Broaddus.

Florida Power and Light Company (FPL), Docket Nos. 50-250 and 50-251, Turkey Point Plant, Units 3 and 4, Miami-Dade County, Florida

Date of amendment request: August 5, 2011.

Description of amendment request: The proposed amendment would modify Technical Specification (TS) Surveillance Requirements (SR) 4.8.2.1 pertaining to periodic verification of battery bank capacity and intercell and connection resistance.

Basis for proposed no significant hazards consideration determination: As required by 10 CFR 50.91(a), the licensee has provided its analysis of the issue of no significant hazards consideration, which is presented below:

(a) Does the proposed change involve a significant increase in the probability or consequences of an accident previously evaluated?

Response: No.

The proposed changes are to the surveillance requirements only. The ability of the TS surveillance to ensure that the batteries have the capacity to perform their specified safety functions with regard to accident mitigation or meeting their licensing design basis requirements is not reduced/diminished.

There are no design changes associated with this TS amendment. The DC power system/batteries will remain designed with adequate independency, redundancy, capacity and testability to permit the functioning required of the engineered safety features. The batteries will each continue to independently provide this capacity assuming a failure of a single active component.

The proposed changes will not affect accident initiators or precursors, not adversely alter the design assumptions, conditions, and configuration of the facility or the manner in which the plant is operated. The proposed changes will not alter or prevent the ability of structures, systems and components from performing their intended functions to mitigate the consequences of an initiating event.

The proposed changes do not physically alter safety related systems nor affect the way in which safety related systems perform their function.

Therefore, the proposed changes do not involve a significant increase in the probability or consequences of an accident previously evaluated.

(b) Does the proposed change create the possibility of a new or different kind of accident from any accident previously evaluated?

Response: No.

The proposed changes are to the surveillance requirements only. The ability of the TS surveillance to ensure that the batteries have the capacity to perform their specified safety functions with regard to accident mitigation or meeting their licensing design basis requirements is not reduced/diminished.

There are no proposed design changes nor are there any changes in the method by which any safety related plant structure, system, or component (SSC) performs its specified safety function. The proposed changes will not affect the normal method of plant operation or change any operating parameters. Equipment performance necessary to fulfill safety analysis missions will be unaffected. The proposed change will not alter any assumptions required to meet the safety analysis acceptance criteria.

No new accident scenarios, transient precursors, failure mechanisms, or limiting single failures will be introduced as a result of this amendment. There will be no adverse effect or challenges imposed on any safety related system as a result of this amendment.

Therefore, the proposed changes do not create the possibility of a new or different kind of accident from any accident previously evaluated.

(c) Does the proposed change involve a significant reduction in a margin of safety?

Response: No.

The proposed changes do not reduce the ability of the TS surveillance requirements to ensure that the station batteries have adequate capacity to perform their engineered safety features functions with regard to accident mitigation and meeting their licensing design basis requirements. The lower battery inter-cell connection resistance values are more restrictive, consistent with design basis calculations and appropriately identified in maintenance procedures. In addition, the battery connections quality is also inherently validated by the TS SR battery performance testing. The new values for the battery capacity and service life surveillance requirements are more restrictive and more appropriate acceptance criteria for verifying battery performance. The reduction in surveillance intervals for a battery showing signs of degradation from 18 months to 12 months is more conservative.

The proposed changes do not physically alter safety related systems. There will be no effect on those plant systems necessary to assure the accomplishment of protection functions. There will be no impact on the overpower limit, departure from nucleate boiling (DNBR) limits, loss of cooling accident peak cladding temperature (LOCA PCT), or any other margin of safety. The applicable radiological dose consequence acceptance criteria will continue to be met.

Therefore, the proposed changes do not involve a significant reduction in a margin of safety.

The NRC staff has reviewed the licensee's analysis and, based on this review, it appears that the three standards of 50.92(c) are satisfied. Therefore, the NRC staff proposes to determine that the amendment request involves no significant hazards consideration.

Attorney for licensee: M.S. Ross, Attorney, Florida Power & Light, P.O. Box 14000, Juno Beach, Florida 33408-0420.

NRC Branch Chief: Douglas A. Broaddus.

Florida Power and Light Company (FPL), Docket Nos. 50-250 and 50-251, Turkey Point Plant, Units 3 and 4, Miami-Dade County, Florida

Date of amendment request: August 17, 2011.

Description of amendment request: The application proposes changes to Technical Specifications (TSs) Limiting Condition for Operation of TS 3.3.3.3, Tables 3.3-5, Accident Monitoring Instrumentation, High Range-Noble Gas Effluent Monitors, Main Steam Lines, Instrument 19d, and conforming changes to TS 4.3.3.3, Table 4.3-4, Accident Monitoring Instrumentation Surveillance Requirements, Instrument 19d.

The Main Steam Lines High Range Noble Gas Effluent Monitor, RAD-6426, is used in post-accident monitoring in response to the requirements of Regulatory Guide 1.97, Revision 3. As a Category 2, Type E instrument, RAD-6426 does not meet any of the Title 10 of the Code of Federal Regulations Section 50.36(c)(2)(ii) screening criteria for inclusion in the TSs Post Accident Monitoring Table. The proposed changes would relocate the TS and surveillance requirements for this instrument to the Updated Final Safety Analysis Report and related procedures.

Basis for proposed no significant hazards consideration determination: As required by 10 CFR 50.91(a), the licensee has provided its analysis of the issue of no significant hazards consideration, which is presented below:

FPL has evaluated the proposed Technical Specification (TS) changes to determine if a significant hazard is present. The No Significant Hazards Consideration evaluation required by 10 CFR 50.92 is provided below.

1. The proposed amendment does not involve a significant increase in the probability or consequences of an accident previously evaluated.

The Main Steam Line High-Range Noble Gas Effluent monitor is not an event initiator, nor is it credited in the mitigation of any event. Thus, the initiating conditions and assumptions for accidents described in the Updated Final Safety Analysis Report (UFSAR) remain as analyzed. The function of the Main Steam Line High-Range Noble Gas Effluent monitor is to detect and quantify noble gas volumetric activity released from the Main Steam Safety Valves and/or the Atmospheric Dump Valves during and following an accident. The Main Steam Line monitors are used in the Emergency Plan to determine event action levels. The use of the monitors in the Off-Normal Operating Procedures, in the Emergency Operating Procedures, and Emergency Plan Implementing Procedures (to determine if a release is in progress) will not change. Relocation of the technical specification and surveillance requirements to the UFSAR and related procedures does not impact the accident analyses in any manner.

Based on the above, the proposed change does not involve a significant increase in the probability or consequences of an accident previously evaluated.

2. The proposed amendment does not create the possibility of a new or different kind of accident from any previously evaluated.

The function of the Main Steam Line High-Range Noble Gas Effluent monitor is to detect and quantify noble gas volumetric activity released from the Main Steam Safety Valves and/or the Atmospheric Dump Valves during and following an accident. This function will not change as a result of the proposed TS changes. Procedural use of the monitor function, surveillance or calibration frequency of the monitor to determine operability will not change as a result of the proposed relocation of the technical specification and surveillance requirements to the UFSAR and related procedures.

Based on the above, the proposed change does not create the possibility of a new or different kind of accident from any previously evaluated.

3. The proposed amendment does not involve a significant reduction in a margin of safety.

The function of the Main Steam Line High-Range Noble Gas Effluent monitor is to detect and quantify noble gas volumetric activity released from the Main Steam Safety Valves and/or the Atmospheric Dump Valves during and following an accident. The relocation of the technical specification and surveillance requirements of this monitor to the UFSAR and related procedures does not affect the manner in which any safety limits, limiting safety system settings, or limiting conditions for operation are determined. The safety analyses are not affected by the proposed TS changes. The proposed changes do not result in plant operation outside of design bases, because the function and surveillance of the monitor for operability remain unchanged.

Based on the above, operation in accordance with the proposed amendment would not involve a significant reduction in a margin of safety.

The NRC staff has reviewed the licensee's analysis and, based on this review, it appears that the three standards of 50.92(c) are satisfied. Therefore, the NRC staff proposes to determine that the amendment request involves no significant hazards consideration.

Attorney for licensee: M.S. Ross, Attorney, Florida Power & Light, P.O. Box 14000, Juno Beach, Florida 33408-0420.

NRC Branch Chief: Douglas A. Broaddus.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available documents created or received at the NRC are accessible electronically through the Agencywide Documents Access and Management System (ADAMS) in the NRC Library at http://www.nrc.gov/reading-rm/adams.html. If you do not have access to ADAMS or if there are problems in accessing the documents located in ADAMS, contact the PDR Reference staff at 1-800-397-4209, 301-415-4737 or by e-mail to pdr.resource@nrc.gov.

Detroit Edison Company, Docket No. 50-341, Fermi 2, Monroe County, Michigan

Date of application for amendment: September 24, 2010, supplemented by letter dated March 4, 2011.

Brief description of amendment: The amendment revises the licensing basis, specifically the Radiological Emergency Response Preparedness (RERP) Plan, to increase the staff augmentation times for the Operational and Technical Support Centers-related functions from 30 to 60 minutes, and for Emergency Operations Facility-related functions from 60 to 90 minutes.

Date of issuance: September 23, 2011.

Effective date: As of the date of issuance and shall be implemented within 60 days.

Amendment No.: 187.

Facility Operating License No. NPF-43: Amendment revised the Operating License.

Date of initial notice in Federal Register: November 30, 2010 (75 FR 74093).

The supplemental letter contained clarifying information and did not change the initial no significant hazards consideration determination, and did not expand the scope of the original application. The Commission's related evaluation of the amendment is contained in a Safety Evaluation dated September 23, 2011.

No significant hazards consideration comments received: No.

Dominion Nuclear Connecticut, Inc., et al., Docket Nos. 50-336 and 50-423, Millstone Power Station, Unit Nos. 2 and 3, New London County, Connecticut

Date of application for amendment: July 12, 2010, as supplemented by letters dated August 5, 2010, September 23, 2010, November 10, 2010, December 13, 2010, April 4, 2011, May 17, 2011, and August 4, 2011.

Brief description of amendment: The amendment approves the Cyber Security Plan (CSP) and associated implementation schedule, and revises the license condition regarding physical protection to reflect such approval. The amendment specifies that the licensee fully implement and maintain in effect all provisions of the Commission-approved CSP as required by 10 CFR 73.54.

Date of issuance: September 30, 2011.

Effective date: As of the date of issuance and shall be implemented according to the schedule conveyed in the licensee's April 4, 2011, letter.

Amendment Nos.: 309 and 251.

Renewed Facility Operating License Nos. DPR-65 and NPF-49: Amendment revised the respective Licenses.

Date of initial notice in Federal Register: February 1, 2011 (76 FR 5616). The supplemental letters contain clarifying information, did not change the scope of the license amendment request, did not change the NRC staff's initial proposed finding of no significant hazards consideration determination, and did not expand the scope of the original Federal Register notice.

The Commission's related evaluation of the amendment is contained in a Safety Evaluation dated September 30, 2011.

No significant hazards consideration comments received: No.

Exelon Generation Company, LLC, Docket No. 50-461, Clinton Power Station, Unit No. 1, DeWitt County, Illinois

Date of application for amendment: October 8, 2010, as supplemented by letters dated January 6, February 24, and March 8, 2011.

Brief description of amendment: This amendment revised technical specification (TS) 3.8.3, “Diesel Fuel Oil, Lube Oil, and Starting Air,” by relocating the current stored diesel fuel oil and lube oil numerical volume requirements from the TS to the TS Bases so that they may be modified under licensee control. The TS were modified so that the stored diesel fuel oil and lube oil inventory would require that a 7-day supply be available for each diesel generator. Condition A and Condition B in the Action table were revised and Surveillance Requirements (SRs) 3.8.3.1 and 3.8.3.2 were revised to reflect the above change.

Date of issuance: October 4, 2011

Effective date: As of the date of issuance and shall be implemented within 60 days.

Amendment No.: 196.

Facility Operating License No. NPF-62: The amendment revised the TSs and license.

Date of initial notice in Federal Register: May 26, 2010 (76 FR 6833) The supplemental letters dated January 6, February 24, and March 8, 2011 contained clarifying information and did not change the NRC staff's initial proposed finding of no significant hazards consideration.

The Commission's related evaluation of the amendment is contained in a Safety Evaluation dated October 4, 2011.

No significant hazards consideration comments received: No.

Exelon Generation Company, LLC, Docket Nos. 50-237 and 50-249, Dresden Nuclear Power Station, Units 2 and 3, Grundy County, Illinois

Date of application for amendment: October 4, 2011, as supplemented by letter dated April 6, 2011.

Brief description of amendment: The amendment revises the applicability of Technical Specification 3.3.1.1, “Reactor Protection System Instrumentation” Function 5 (i.e., “Main Steam Isolation valve—Closure”) and Function 10 (i.e., “Turbine Condenser Vacuum—Low”) for Dresden Nuclear Power Station Units 2 and 3. The change enables the implementation of a modification that will eliminate these functions with the reactor switch in STARTUP while in Mode 2 with reactor pressure greater than or equal to 600 pounds per square inch (psig).

Date of issuance: October 4, 2011.

Effective date: As of the date of issuance and shall be implemented during the next outage of sufficient duration.

Amendment Nos.: 239, 232.

Renewed Facility Operating License Nos. DPR-19 and DPR-25: The amendments revised the Technical Specifications and License.

Date of initial notice in Federal Register: February 1, 2011 (76 FR 5619).

The April 6, 2011, supplement contained clarifying information and did not change the NRC staff's initial proposed finding of no significant hazards consideration.

The Commission's related evaluation of the amendments is contained in a Safety Evaluation dated October 4, 2011.

No significant hazards consideration comments received: No.

Exelon Generation Company, LLC, and PSEG Nuclear, LLC, Docket No. 50-278, Peach Bottom Atomic Power Station (PBAPS), Unit 3, York and Lancaster Counties, Pennsylvania

Date of application for amendments: June 8, 2011, as supplemented on August 19, 2011, and September 9, 2011.

Brief description of amendments: The amendment modifies the PBAPS Unit 3 Technical Specification (TS) Section 2.1.1.2 to reflect revised Safety Limit Minimum Critical Power Ratio (SLMCPR) values for Operating Cycle 19. The SLMCPR analysis establishes SLMCPR values that will ensure that during normal operation and during abnormal operational transients, at least 99.9 percent of all fuel rods in the core do not experience transition boiling if the limit is not violated.

Date of issuance: September 30, 2011.

Effective date: As of the date of issuance and shall be implemented within 30 days from the date of issuance.

Amendment No.: 284.

Renewed Facility Operating License No. DPR-56: Amendment revises the Technical Specifications.

Date of initial notice in Federal Register: August 22, 2011 (76 FR 52357).

The supplements dated August 19, 2011 and September 9, 2011, clarified the application, did not expand the scope of the application as originally noticed, and did not change the initial proposed no significant hazards consideration (NSHC) determination.

The Commission's related evaluation of the amendment and final NSHC determination are contained in a Safety Evaluation dated September 30, 2011.

No significant hazards consideration comments received: No.

Exelon Generation Company, LLC, and PSEG Nuclear, LLC, Docket Nos. 50-277 and 50-278, Peach Bottom Atomic Power Station (PBAPS), Units 2 and 3, York and Lancaster Counties, Pennsylvania

Date of application for amendments: June 25, 2010, as supplemented on August 16, 2010, December 16, 2010, January 26, 2011, and March 25, 2011.

Brief description of amendments: The amendment revises Technical Specification Surveillance Requirement (SR) 3.6.1.3, “Primary Containment Isolation Valves (PCIVs),” and SR 3.6.1.5, “Reactor Building-to-Suppression Chamber Vacuum Breakers,” to modify the required level for the liquid nitrogen storage tank.

Date of issuance: September 30, 2011.

Effective date: As of the date of issuance and shall be implemented within 30 days from the date of issuance.

Amendment Nos.: 282 and 285.

Renewed Facility Operating License Nos. DPR-44 and DPR-56: Amendments revised the License and Technical Specifications.

Date of initial notice in Federal Register: November 30, 2010, (75 FR 74094). The supplements dated August 16, 2010, December 16, 2010, January 26, 2011, and March 25, 2011, clarified the application, did not expand the scope of the application as originally noticed, and did not change the initial proposed no significant hazards consideration determination.

The Commission's related evaluation of the amendments is contained in a Safety Evaluation dated September 30, 2011.

No significant hazards consideration comments received: No.

FirstEnergy Nuclear Operating Company, et al., Docket No. 50-440, Perry Nuclear Power Plant, Unit No. 1, Lake County, Ohio

Date of application for amendment: April 12, 2011.

Brief description of amendment: FirstEnergy Nuclear Operating Company, the licensee for the Perry Nuclear Power Plant Unit No. 1 (PNPP), requested to amend the PNPP Technical Specification (TS) to define a new time limit for restoring inoperable reactor coolant system (RCS) leakage detection instrumentation to operable status; establish alternate methods of monitoring RCS leakage when one or more required monitors are inoperable; and make TS Bases changes which reflect the proposed changes and more accurately reflect the contents of the facility design basis related to operability of the RCS leakage detection instrumentation. The request is consistent with the guidance contained in U.S. Nuclear Regulatory Commission (NRC)-approved Technical Specifications Task Force Change Traveler 514 (TSTF-514). TSTF-514 was made available by the NRC on, December 17, 2010 (75 FR 79048) as part of the consolidated line item improvement process.

Date of issuance: October 4, 2011.

Effective date: As of the date of issuance and shall be implemented within 90 days.

Amendment No.: 159.

Facility Operating License No. NPF-58: This amendment revised the Technical Specifications and License.

Date of initial notice in Federal Register: May 31, 2011 (76 FR 31373).

The Commission's related evaluation of the amendment is contained in a Safety Evaluation dated October 4, 2011.

No significant hazards consideration comments received: No.

Nine Mile Point Nuclear Station, LLC, Docket No. 50-220, Nine Mile Point Nuclear Station, Unit No. 1 (NMP1), Oswego County, New York

Date of application for amendment: September 29, 2010.

Brief description of amendment: The amendment revises the NMP1 Technical Specifications (TS) Sections 3/4.1.5, “Solenoid-Actuated Pressure Relief Valves (Automatic Depressurization System),” and 3/4.2.9, “Pressure Relief Systems-Solenoid-Actuated Pressure Relief Valves (Overpressurization),” to provide for an alternative means of testing the main steam electromatic relief valves (ERVs). The proposed change allows demonstration of the capability of the valves to perform their safety function without requiring the ERVs to be cycled with reactor steam pressure while installed in the plant.

Date of issuance: September 28, 2011.

Effective date: As of the date of issuance to be implemented within 90 days.

Amendment No.: 210.

Renewed Facility Operating License No. DPR-63: The amendment revises the License and TSs.

Date of initial notice in Federal Register: February 22, 2011 (76 FR 9826).

The Commission's related evaluation of the amendment is contained in a Safety Evaluation dated September 28, 2011.

No significant hazards consideration comments received: No.

Omaha Public Power District, Docket No. 50-285, Fort Calhoun Station, Unit No. 1, Washington County, Nebraska

Date of amendment request: August 16, 2010, as supplemented by letters dated September 27, 2010, April 6, 2011, and June 30, 2011.

Brief description of amendment: The amendment revised the Fort Calhoun Station, Unit 1 (FCS) Technical Specifications (TSs) to relocate the operating and surveillance requirements for the power-operated relief valve and pressurizer safety valve acoustic position indication and tail pipe temperature from TS 2.15, “Instrumentation and Control Systems,” Table 2-5, “Instrumentation Operating Requirements for Other Safety Feature Functions,” Items 3, 4, and 5 to the FCS Updated Safety Analysis Report. The amendment also revised the surveillance requirement, TS 3.1, “Instrumentation and Control,” Table 3-3, “Minimum Frequencies for Checks, Calibrations and Testing of Miscellaneous Instrumentation and Controls,” Items 21, 23, and 24. Additionally, the TS Table 2-5 associated Note `e' was re-lettered to Note `a' and TS Table 2-5 footnote `i' to Note `c' was deleted.

Date of issuance: September 30, 2011.

Effective date: This license amendment is effective as of the date of its issuance and shall be implemented within 90 days from the date of issuance.

Amendment No.: 268.

Renewed Facility Operating License No. DPR-40: The amendment revised the operating license and Technical Specifications.

Date of initial notice in Federal Register: January 25, 2011 (76 FR 4388). The supplemental letters dated September 27, 2010, April 6, 2011, and June 30, 2011, provided additional information that clarified the application, did not expand the scope of the application as originally noticed, and did not change the staff's original proposed no significant hazards consideration determination as published in the Federal Register. The Commission's related evaluation of the amendment is contained in a safety evaluation dated September 30, 2011. No significant hazards consideration comments received: No.

Tennessee Valley Authority, Docket Nos. 50-259, 50-260, and 50-296, Browns Ferry Nuclear Plant, Units 1, 2, and 3, Limestone County, Alabama

Date of application for amendments: November 12, 2010, as supplemented on February 8, May 27, June 15, and August 19, 2011.

Description of amendment request: The changes extend the Completion Time (CT) specified in Technical Specification (TS) 3.8.1, “AC Sources—Operating,” for Emergency Diesel Generators (EDGs) A, B, C, D, 3A, 3B, 3C and 3D from 7 days to 14 days when one EDG is inoperable, provided a supplemental power source is available during the CT extension period.

Date of issuance: October 5, 2011.

Effective date: Date of issuance, to be implemented within 30 days.

Amendment Nos.: Unit 1—280, Unit 2—307, and Unit 3—266.

Renewed Facility Operating License Nos. DPR-33, DPR-52, and DPR-68: Amendments revised the licenses and TSs.

Date of initial notice in Federal Register: December 14, 2010 (75 FR 77917). The supplements dated February 8, May 27, June 15, and August 19, 2011, provided additional information that clarified the application, did not expand the scope of the application as originally noticed, and did not change the staff's original proposed no significant hazards consideration determination as published in the Federal Register.

The Commission's related evaluation of the amendment is contained in a Safety Evaluation dated October 5, 2011.

No significant hazards consideration comments received: No.

Virginia Electric and Power Company, Docket Nos. 50-338 and 50-339, North Anna Power Station, Units 1 and 2, Louisa County, Virginia

Date of application for amendment: April 27, 2011.

Brief description of amendment: These amendments revise Technical Specifications (TSs) 3.4.15 “RCS [reactor coolant system] Leakage Detection Instrumentation.”

Date of issuance: September 28, 2011.

Effective date: As of the date of issuance and shall be implemented within 60 days from the date of issuance.

Amendment Nos.: 265/246.

Renewed Facility Operating License Nos. NPF-4 and NPF-7: Amendments change the licenses and the technical specifications. Specifically, the amendments define a new time limit for restoring inoperable RCS leakage detection instrumentation to operable status and establish alternate methods of monitoring RCS leakage when one or more required leakage detection monitors are inoperable.

Date of initial notice in Federal Register: May 31, 2011 (76 FR 31377).

The Commission's related evaluation of the amendments is contained in a Safety Evaluation dated September 28, 2011.

No significant hazards consideration comments received: No.

Notice of Issuance of Amendments to Facility Operating Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR Chapter I, which are set forth in the license amendment.

Because of exigent or emergency circumstances associated with the date the amendment was needed, there was not time for the Commission to publish, for public comment before issuance, its usual Notice of Consideration of Issuance of Amendment, Proposed No Significant Hazards Consideration Determination, and Opportunity for a Hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License, and (3) the Commission's related letter, Safety Evaluation and/or Environmental Assessment, as indicated. All of these items are available for public inspection at the Commission's Public Document Room (PDR), located at One White Flint North, Public File Area 01F21, 11555 Rockville Pike (first floor), Rockville, Maryland. Publicly available documents created or received at the NRC are accessible electronically through the Agencywide Documents Access and Management System (ADAMS) in the NRC Library at http://www.nrc.gov/reading-rm/adams.html. If you do not have access to ADAMS or if there are problems in accessing the documents located in ADAMS, contact the PDR Reference staff at 1 (800) 397-4209, (301) 415-4737 or by e-mail to pdr.resource@nrc.gov.

The Commission is also offering an opportunity for a hearing with respect to the issuance of the amendment. Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area 01F21, 11555 Rockville Pike (first floor), Rockville, Maryland, and electronically on the Internet at the NRC Web site, http://www.nrc.gov/reading-rm/doc-collections/cfr/. If there are problems in accessing the document, contact the PDR Reference staff at 1-800-397-4209, 301-415-4737, or by e-mail to pdr.resource@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: 1) the name, address, and telephone number of the requestor or petitioner; 2) the nature of the requestor's/petitioner's right under the Act to be made a party to the proceeding; 3) the nature and extent of the requestor's/petitioner's property, financial, or other interest in the proceeding; and 4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact.¹ Contentions shall be limited to matters within the scope of the amendment under consideration. The contention must be one which, if proven, would entitle the petitioner to relief. A requestor/petitioner who fails to satisfy these requirements with respect to at least one contention will not be permitted to participate as a party.

¹ To the extent that the applications contain attachments and supporting documents that are not publicly available because they are asserted to contain safeguards or proprietary information, petitioners desiring access to this information should contact the applicant or applicant's counsel and discuss the need for a protective order.

Each contention shall be given a separate numeric or alpha designation within one of the following groups:

1. Technical—primarily concerns/issues relating to technical and/or health and safety matters discussed or referenced in the applications.

2. Environmental—primarily concerns/issues relating to matters discussed or referenced in the environmental analysis for the applications.

3. Miscellaneous—does not fall into one of the categories outlined above.

As specified in 10 CFR 2.309, if two or more petitioners/requestors seek to co-sponsor a contention, the petitioners/requestors shall jointly designate a representative who shall have the authority to act for the petitioners/requestors with respect to that contention. If a requestor/petitioner seeks to adopt the contention of another sponsoring requestor/petitioner, the requestor/petitioner who seeks to adopt the contention must either agree that the sponsoring requestor/petitioner shall act as the representative with respect to that contention, or jointly designate with the sponsoring requestor/petitioner a representative who shall have the authority to act for the petitioners/requestors with respect to that contention.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the Internet, or in some cases to mail copies on electronic storage media. Participants may not submit paper copies of their filings unless they seek an exemption in accordance with the procedures described below.

To comply with the procedural requirements of E-Filing, at least ten (10) days prior to the filing deadline, the participant should contact the Office of the Secretary by e-mail at hearing.docket@nrc.gov, or by telephone at 301-415-1677, to request (1) a digital ID certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through EIE, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an e-mail notice confirming receipt of the document. The E-Filing system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by e-mail at MSHD.Resource@nrc.gov, or by a toll-free call at (866) 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Entergy Nuclear Vermont Yankee, LLC and Entergy Nuclear Operations, Inc.,

Docket No. 50-271, Vermont Yankee Nuclear Power Station, Vernon, Vermont

Date of amendment request: September 29, 2011.

Description of amendment request: The amendment would revise the Technical Specifications to allow disarming either the supply breaker or the field breaker to the motor generator set for an idle recirculation pump when operating in single loop.

Date of issuance: September 30, 2011.

Effective date: As of the date of issuance, and shall be implemented within 30 days.

Amendment No.: 249.

Facility Operating License No. DPR-28: The amendment revised the License and the Technical Specifications.

Public Comments Requested as to Proposed No Significant Hazards Consideration (NSHC)

No. The Commission's related evaluation of the amendment, finding of emergency circumstances, and final determination of no significant hazards consideration are contained in a Safety Evaluation dated September 30, 2011.

Attorney for licensee: Mr. William C. Dennis, Assistant General Counsel, Entergy Nuclear Operations, Inc., 400 Hamilton Avenue, White Plains, NY 10601.

NRC Branch Chief: Nancy L. Salgado.

Dated at Rockville, Maryland this 6th day of October 2011.
For the Nuclear Regulatory Commission.
Michele Evans,
Director, Division of Operating Reactor Licensing, Office of Nuclear Reactor Regulation.

[FR Doc. 2011-26893 Filed 10-17-11; 8:45 am]

BILLING CODE 7590-01-P